JUDICIAL CONFERENCE OF THE UNITED STATES

Meeting of the Judicial Conference Committee on Rules of Practice and Procedure

AGENCY: Judicial Conference of the United States, Committee on Rules of Practice and Procedure.

ACTION: Notice of open meeting.

SUMMARY: The Advisory Committee on Rules of Practice and Procedure will hold a two-day meeting. The meeting will be open to public observation but not participation.

DATES: January 11-12, 2007.

Time: 8:30 a.m. to 5 p.m.

ADDRESSES: The Hermosa Inn, Stetson Room, 5532 North Palo Cristi Road, Scottsdale, AZ.

FOR FURTHER INFORMATION CONTACT: John K. Rabiej, Chief, Rules Committee Support Office, Administrative Office of the United States Courts, Washington, DC 20544, telephone (202) 502-1820.

Dated: September 22, 2006.
John K. Rabiej,
Chief, Rules Committee Support Office.

[FR Doc. 06-8386 Filed 9-29-06; 8:45 am]

BILLING CODE 2210-55-M